DEPARTMENT OF TRANSPORTATION

Federal Aviation Administration

[Docket No. 2120-0660]

Agency Information Collection Activities: Requests for Comments; Clearance of a Renewed Approval of Information Collection: Flight Operations Quality Assurance (FOQA) Program

AGENCY: Federal Aviation Administration (FAA), Department of Transportation (DOT).

ACTION: Notice and request for comments.

SUMMARY: In accordance with the Paperwork Reduction Act of 1995, the FAA invites public comments about our intention to request the Office of Management and Budget (OMB) approval to renew an information collection. The collection involves the voluntary submission of information gained through the Flight Operations Quality Assurance (FOQA) Program. FOQA is a voluntary safety program designed to improve aviation safety through the proactive use of flight-recorded data. The information collected will allow operators to use this data to identify and correct deficiencies in all areas of flight operations.

DATES: Written comments should be submitted by March 30, 2026.

ADDRESSES: Please send written comments:

By Electronic Docket: www.regulations.gov (Enter docket number into search field)

By Mail: By mail: Sandra L. Ray, 1187 Thorn Run Road, Suite 200, Coraopolis, PA 15108

By Fax: 412-239-3063

FOR FURTHER INFORMATION CONTACT: Sandra Ray, Flight Standards, Office of Safety Standards, Safety Management Branch (AFS-940) by email at: sandra.ray@faa.gov; phone: 412-546-7344.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0660.

Title: Flight Operations Quality Assurance (FOQA) Program.

Form Numbers: None.

Type of Review: Renewal of an information collection.

Background: Flight Operations Quality Assurance (FOQA) is a voluntary safety program designed to improve aviation safety through the proactive use of flight-recorded data. Operators will use this data to identify and correct deficiencies in all areas of flight operations.

An air carrier wanting to participate in FOQA will prepare an Implementation and Operations (I&O) Plan for FAA review and approval. The I&O Plan specifies the organization, technology, policies, procedures, and operational processes to be used in their FOQA program. It further details how an air carrier will collect operational flight data, develop methods to analyze the collected flight data (e.g., trigger events, routine operational measurements), and establish procedures for comparing the collected data with established procedures and standards. The air carrier determines the areas it will heighten awareness and feedback programs to enhance safety. Identified areas often include flight procedures, flight training procedures and qualification standards, crew performance, air traffic control procedures, aircraft maintenance and engineering programs, and/or aircraft and airport design and maintenance. Trend analyses of FOQA data will identify potential problem areas, evaluate corrective actions, and measure performance over time. This information is de-identified to share with stakeholders and regulators such as the FAA, National Aeronautics and Space Administration (NASA), or industry safety groups.

Properly used, FOQA data can reduce or eliminate safety risks, as well as minimize deviations from regulations. Through access to de-identified aggregate FOQA data, the FAA can identify and analyze national trends and target resources to reduce operational risks in the National Airspace System (NAS), air traffic control (ATC), flight operations and airport operations.

The FAA and the air transportation industry have sought additional means for addressing safety problems and identifying potential safety hazards. Based on the experiences of foreign air carriers, the results of several FAA-sponsored studies, and input received from government/industry safety forums, the FAA concluded that wide implementation of FOQA programs could have significant potential to reduce air carrier accident rates below current levels. The value of FOQA programs is the early identification of adverse safety trends, which, if uncorrected, could lead to accidents. A key element in FOQA is the application of corrective action and follow-up to ensure that unsafe conditions are effectively remediated.

Respondents: 69 Air Carriers (57 with existing programs and 12 with new programs).

Frequency: Once for certificate holders requesting a new program, monthly for certificate holders with an existing program.

Estimated Average Burden per Response: 100 hours for new respondents, 30 hours annually for existing respondents.

Estimated Total Annual Burden 1,200 hours for new respondents, 1,710 hours for existing respondents.

Issued in Washington, DC.
Hugh J. Thomas,
Acting Deputy Executive Director, Flight Standards Service.

[FR Doc. 2026-01658 Filed 1-27-26; 8:45 am]

BILLING CODE 4910-13-P